DEPARTMENT OF LABOR

Mine Safety and Health Administration

Proposed Information Collection Request; Submitted for Public Comment and Recommendations; Health Standards for Diesel Particulates Matter (Underground Metal and Nonmetal Mines)

ACTION: Notice.

SUMMARY: The Department of Labor, as part of its continuing effort to reduce paperwork and respondent burden conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

Currently, the Mine Safety and Health Administration (MSHA) is soliciting comments concerning the extension of the information collection related to the 30 CFR 57.5060, 57.5065, 57.5066, 57.5067, 57.5070, 57.5071, and 57.5075—Health Standards for Diesel Particulates Matter (Underground Metal and Nonmetal Mines).

DATES: Submit comments on or before May 19, 2009.

ADDRESSES: Send comments to, Debbie Ferraro, Management Services Division, 1100 Wilson Boulevard, Room 2141, Arlington, VA 22209-3939. Commenters are encouraged to send their comments on computer disk, or via e-mail to Ferraro.Debbie@DOL.GOV. Ms. Ferraro can be reached at (202) 693-9821 (voice), or (202) 693-9801 (facsimile).

FOR FURTHER INFORMATION CONTACT: Contact the employee listed in the ADDRESSES section of this notice.

SUPPLEMENTARY INFORMATION:

I. Background

Diesel particulate matter (DPM) is a probable carcinogen that consists of tiny particles present in diesel engine exhaust that can readily penetrate into the deepest recesses of the lungs. Despite ventilation, the confined underground mine work environment may contribute to significant concentrations of particles produced by equipment used in the mine. Underground miners are exposed to higher concentrations of DPM than any other occupational group. As a result, they face a significantly greater risk than other workers of developing such diseases as lung cancer, heart failure, serious allergic responses and other cardiopulmonary problems.

The DPM rule for underground Metal and Nonmetal (MNM) miners establishes a permissible exposure limit (PEL) to total carbon, which is a surrogate for measuring a miner's exposure to DPM. The rule includes a number of other requirements for the protection of miners' health.

II. Desired Focus of Comments

MSHA is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request can be obtained by contacting the employee listed in the ADDRESSES section of this notice, or viewed on the Internet by accessing the MSHA home page (http://www.msha.gov/) and selecting “Rules & Regs”, and then selecting “FedReg. Docs”. On the next screen, select “Paperwork Reduction Act Supporting Statement” to view documents supporting the Federal Register Notice.

III. Current Actions

Currently, the Mine Safety and Health Administration is soliciting comments concerning the proposed extension of the information collection requirement related to the health standard requirements for the protection of miners' health related to Diesel particulate matter for underground Metal and Nonmetal mines.

Underground mines are confined spaces which, despite ventilation requirements, tend to accumulate significant concentrations of particles and gases—both those produced by the mine itself (e.g., methane gas and respirable dust) and those produced by equipment used in the mine (e.g., diesel particulate). It is widely recognized that respirable particles can create adverse health effects. This information collection is provided to the MSHA inspector and used by the agency to monitor the mine operator's compliance with the health standard.

Type of Review: Extension.

Agency: Mine Safety and Health Administration.

Title: Health Standards for Diesel Particulates Matter (Underground Metal and Nonmetal Mines).

OMB Number: 1219-0135.

Frequency: On Occasion.

Affected Public: Business or other for-profit.

Respondents: 173.

Responses: 18,752.

Total Burden Hours: 3,331 hours.

Total Burden Cost (operating/maintaining): $176,363.

Comments submitted in response to this notice will be summarized and/or included in the request for Office of Management and Budget approval of the information collection request; they will also become a matter of public record.

Dated at Arlington, Virginia, this 16th day of March, 2009.
John Rowlett,
Director, Management Services Division.

[FR Doc. E9-6030 Filed 3-19-09; 8:45 am]

BILLING CODE 4510-43-P